DEPARTMENT OF THE INTERIOR

Minerals Management Service

30 CFR Parts 201, 206, 212, 216, 217, 218, 219, 220, 227, 228, 230, 241, and 243

RIN 1010-AC87

Technical Amendments

AGENCY: Minerals Management Service (MMS), Interior.

ACTION: Final rule.

SUMMARY: The MMS is updating its regulations to reflect changes in our organization name, system names, handbook titles, addresses, and regulatory cites as well as correcting miscellaneous clerical errors. We are also removing certain parts of the CFR relating to laws that have been repealed. These technical amendments will make MMS regulations more accurate and useful.

EFFECTIVE DATE: This rule is effective April 18, 2002.

FOR FURTHER INFORMATION CONTACT: Carol P. Shelby, Regulatory Specialist, Minerals Management Service, Minerals Revenue Management, P.O. Box 25165, MS 320B2, Denver, Colorado 80225-0165; telephone (303) 231-3151; FAX (303) 231-3385; e-mail Carol.Shelby@mms.gov.

SUPPLEMENTARY INFORMATION: This final rule contains technical amendments that will make MMS regulations more accurate and useful. The Department of the Interior finds good cause to issue this rule without notice and opportunity for public comment. Public comment is unnecessary because this rule contains technical amendments that relate to (1) agency administration and, thus, do not affect the regulated community or (2) regulations rendered null and void by subsequent legislation over which MMS has no control. For the same reasons, a 30-day period is not required between publication of the final rule and its effective date under 5 U.S.C. 553(d). All of the amendments in this rule are covered in the following seven categories:

Organization Name

In October 2000, the MMS Royalty Management Program was reorganized and renamed Minerals Revenue Management. To reflect this change, we have removed all references to the Royalty Management Program wherever it occurs in our regulations. The change in organization name necessarily affected the title of our Associate Director which we also corrected in this rule.

System Names

In October 2001, we implemented our reengineered financial and compliance computer system. To reflect this change, we have removed all references to our former computer systems—the Auditing and Financial System (AFS) and the Production Accounting and Auditing System (PAAS)—wherever they occur in our regulations.

Handbook Titles

In October 2001, we began using revised handbooks to reflect our reengineered reporting requirements. Thus, we revised references to previous handbook titles such as the Oil and Gas Payor Handbook, the PAAS Onshore Oil and Gas Reporter Handbook, and the PAAS Reporter Handbook—Lease, Facility/Measurement Point, and Gas Plant Operators wherever they occur in our regulations. We also replaced specific titles with the more generic terms, revenue reporter handbook and production reporter handbook, in order to minimize future regulatory revisions.

Addresses

On February 11, 2002, the Office of Hearings and Appeals moved their office location to a new street address in Arlington, Virginia. In part 241, we corrected the street address to read 801 North Quincy Street wherever necessary.

Regulatory Cites

Over a number of years, various sections, and paragraphs within sections, have been renumbered and often re-titled as our regulations were amended. Because regulatory amendments occur quite frequently, we have changed our cross-references to refer readers, in most cases, to specific parts rather than the sections or paragraphs within the parts. We believe this practice will minimize the need for future regulatory changes. For example, rather than refer the reader to 30 CFR 210.53, which may not exist after a pending revision becomes effective, we have generalized the cross-reference to read “part 210 of this chapter.”

Miscellaneous Corrections

We are also taking this opportunity to make miscellaneous corrections such as the name of a subsequently amended law and certain spelling errors.

Regulations Repealed by Law

We removed part 230 because it pertains to refunds under Section 10 of the Outer Continental Shelf Lands Act (43 U.S.C. 1339). Section 10 was repealed by the Federal Oil and Gas Royalty Simplification and Fairness Act of 1996 (30 U.S.C 1732 note) effective August 13, 1996. Procedures for requesting Section 10 refunds before and after repeal are contained in chapter 6 of our revenue reporter handbook.

Procedural Matters

1. Summary Cost and Benefit Data

This is an MMS administrative action that imposes no monetary costs or benefits on industry, the Federal Government, State and local governments, or Indian tribes and allottees. The cost and benefit information in this Item 1 of Procedural Matters is used as the basis for the Departmental certifications in Items 2-12.

2. Regulatory Planning and Review (Executive Order 12866)

This document is not a significant rule and is not subject to review by the Office of Management and Budget under Executive Order 12866.

(1) This rule will not have an effect of $100 million or more on the economy. It will not adversely affect in a material way the economy, productivity, competition, jobs, the environment, public health or safety, or State, local, or tribal governments or communities.

(2) This rule will not create a serious inconsistency or otherwise interfere with an action taken or planned by another agency.

(3) This rule does not alter the budgetary effects of entitlements, grants, user fees, or loan programs or the rights or obligations of their recipients.

(4) This rule does not raise novel legal or policy issues.

3. Regulatory Flexibility Act

The Department of the Interior certifies that this document will not have a significant adverse effect on a substantial number of small entities under the Regulatory Flexibility Act (5 U.S.C. 601 et seq.).

4. Small Business Regulatory Enforcement Act (SBREFA)

This rule is not a major rule under 5 U.S.C. 804(2), the Small Business Regulatory Enforcement Fairness Act. This rule:

a. Does not have an annual effect on the economy of $100 million or more.

b. Will not cause a major increase in costs or prices for consumers, individual industries, Federal, State, or local government agencies, or geographic regions.

c. Does not have significant adverse effects on competition, employment, investment, productivity, innovation, or the ability of U.S.-based enterprises to compete with foreign-based enterprises.

5. Unfunded Mandates Reform Act

This rule does not impose an unfunded mandate on State, local, or tribal governments or the private sector of more than $100 million per year. The rule does not have a significant or unique effect on State, local, or tribal governments or the private sector. A statement containing the information required by the Unfunded Mandates Reform Act (2 U.S.C. 1531 et seq.) is not required.

6. Takings (Executive Order 12630)

In accordance with Executive Order 12630, this rule does not have significant takings implications. This rule does not impose conditions or limitations on the use of any private property; consequently, a takings implication assessment is not required.

7. Federalism (Executive Order 13132)

In accordance with Executive Order 13132, this rule does not have Federalism implications. This rule does not substantially or directly affect the relationship between the Federal and State governments or impose costs on States or localities.

8. Civil Justice Reform (Executive Order 12988)

In accordance with Executive Order 12988, the Office of the Solicitor has determined that this rule does not unduly burden the judicial system and meets the requirements of sections 3(a) and 3(b)(2) of the Order.

9. Paperwork Reduction Act of 1995

This rule does not contain any new or changed information collections, as defined by the Paperwork Reduction Act, that must be submitted to the Office of Management and Budget for approval.

10. National Environmental Policy Act

This rule does not constitute a major Federal action significantly affecting the quality of the human environment. A detailed statement under the National Environmental Policy Act of 1969 is not required.

11. Consultation and Coordination With Indian Tribal Governments

In accordance with Executive Order 13175, this rule does not have tribal implications that impose substantial direct compliance costs on Indian tribal governments.

12. Energy Effects

Under Executive Order 13211, this rule is not a significant regulatory action and will not have a significant adverse effect on energy supply, distribution, or use. A Statement of Energy Effects is not necessary.

List of Subjects

30 CFR Part 201

Coal, Continental Shelf, Geothermal energy, Government contracts, Indian lands, Mineral royalties, Natural gas, Petroleum, Public lands—mineral resources.

30 CFR Part 206

Coal, Continental Shelf, Geothermal energy, Government contracts, Indian lands, Mineral royalties, Natural gas, Petroleum, Public lands—mineral resources, Reporting and recordkeeping requirements.

30 CFR Part 212

Coal, Continental Shelf, Geothermal energy, Government contracts, Indian lands, Mineral royalties, Natural gas, Petroleum, Public lands—mineral resources, Reporting and recordkeeping requirements.

30 CFR Part 216

Coal, Continental Shelf, Geothermal energy, Government contracts, Indian lands, Mineral royalties, Natural gas, Penalties, Petroleum, Public lands—mineral resources, Reporting and recordkeeping requirements.

30 CFR Part 217

Coal, Continental Shelf, Geothermal energy, Government contracts, Indian lands, Mineral royalties, Natural gas, Petroleum, Public lands—mineral resources, Reporting and recordkeeping requirements.

30 CFR Part 218

Coal, Continental Shelf, Electronic funds transfers, Geothermal energy, Government contracts, Indian lands, Mineral royalties, Natural gas, Penalties, Petroleum, Public lands—mineral resources, Reporting and recordkeeping requirements.

30 CFR Part 219

Coal, Continental Shelf, Electronic funds transfers, Geothermal energy, Government contracts, Indian lands, Mineral royalties, Natural gas, Petroleum, Public lands—mineral resources, Reporting and recordkeeping requirements.

30 CFR Part 220

Coal, Continental Shelf, Geothermal energy, Government contracts, Mineral royalties, Natural gas, Petroleum, Public lands—mineral resources, Reporting and recordkeeping requirements.

30 CFR Part 227

Coal, Continental Shelf, Geothermal energy, Government contracts, Mineral royalties, Natural gas, Petroleum, Public lands—mineral resources, Reporting and recordkeeping requirements.

30 CFR Part 228

Coal, Continental Shelf, Geothermal energy, Government contracts, Indian lands, Mineral royalties, Natural gas, Penalties, Petroleum, Public lands—mineral resources, Reporting and recordkeeping requirements.

30 CFR Part 230

Coal, Continental Shelf, Electronic funds transfers, Geothermal energy, Government contracts, Indian lands, Mineral royalties, Natural gas, Penalties, Petroleum, Public lands—mineral resources, Reporting and recordkeeping requirements.

30 CFR Part 241

Coal, Continental Shelf, Geothermal energy, Government contracts, Indian lands, Mineral royalties, Natural gas, Penalties, Petroleum, Public lands—mineral resources, Reporting and recordkeeping requirements.

30 CFR Part 243

Coal, Continental Shelf, Geothermal energy, Government contracts, Indian lands, Mineral royalties, Natural gas, Petroleum, Public lands—mineral resources.

Dated: March 26, 2002.
Rebecca W. Watson,
Assistant Secretary for Land and Minerals Management.

For reasons stated in the preamble, MMS amends 30 CFR parts 201, 206, 212, 216, 217, 218, 219, 220, 227, 228, 230, 241, and 243, as follows:

PART 201—GENERAL

1. The authority citation for part 201 continues to read as follows:

Authority: The Act of February 25, 1920 (30 U.S.C. 181, et seq.), as amended; the Act of May 21, 1930 (30 U.S.C. 301-306); the Mineral Leasing Act for Acquired Lands (30 U.S.C. 351-359), as amended; the Act of March 3, 1909 (25 U.S.C. 396), as amended; the National Environmental Policy Act of 1969 (42 U.S.C. 4321, et seq.) as amended; the Act of May 11, 1938 (25 U.S.C. 396a-396q), as amended; the Act of February 28, 1891 (25 U.S.C. 397), as amended; the Act of May 29, 1924 (25 U.S.C. 398); the Act of March 3, 1927 (25 U.S.C. 398a-398e); the Act of June 30, 1919 (25 U.S.C. 399), as amended; R.S. § 441 (43 U.S.C. 1457), see also Attorney General's Opinion of April 2, 1941 (40 Op. Atty. Gen. 41); the Federal Property and Administrative Services Act of 1949 (40 U.S.C. 471, et seq.), as amended; the National Environmental Policy Act of 1969 (42 U.S.C. 4321 et seq.), as amended; the Act of December 12, 1980 (Pub. L. 96-514, 94 Stat. 2964); the Combined Hydrocarbon Leasing Act of 1981 (Pub. L. 97-78, 95 Stat. 1070); the Outer Continental Shelf Lands Act (43 U.S.C. 1331, et seq.), as amended; section 2 of Reorganization Plan No. 3 of 1950 (64 stat. 1262); Secretarial Order No. 3071 of January 19, 1982, as amended; and Secretarial Order 3087, as amended.

§ 201.100 [Amended]

2. In § 201.100, in the section heading, remove the word “Royalty” and add in its place “Minerals Revenue.”

PART 206—PRODUCT VALUATION

3. The authority citation for part 206 continues to read as follows:

Authority: 5 U.S.C. 301 et seq., 25 U.S.C. 396 et seq., 396a et seq., 2101 et seq.; 30 U.S.C. 181 et seq., 351 et seq., 1001 et seq., 1701 et seq.; 31 U.S.C. 9701; 43 U.S.C. 1301 et seq., 1331 et seq., and 1801 et seq.

§ 206.52 [Amended]

4. In § 206.52, paragraph (e)(2), second sentence, remove the word “Royalty” and add in its place “Minerals Revenue.”

§ 206.103 [Amended]

5. In § 206.103, paragraph (b)(2)(iii), remove the words “ ‘Oil and Gas Payor Handbook’ ” and add in its place “revenue reporter handbook.”

§ 206.152 [Amended]

6. In § 206.152, paragraph (e)(3), second sentence, remove the word “Royalty” and add in its place “Minerals Revenue.”

§ 206.153 [Amended]

7. In § 206.153, paragraph (e)(3), second sentence, remove the word “Royalty” and add in its place “Minerals Revenue.”

§ 206.250 [Amended]

8. In § 206.250, paragraph (c), remove the word “Mineral” and add in its place “Minerals.”

§ 206.352 [Amended]

9. In § 206.352, paragraph (e)(3), second sentence, remove the word “Royalty” and add in its place “Minerals Revenue.”

§ 206.355 [Amended]

10. In § 206.355, paragraph (e)(3), second sentence, remove the word “Royalty” and add in its place “Minerals Revenue.”

§ 206.356 [Amended]

11. In § 206.356, paragraph (d)(3), second sentence, remove the word “Royalty” and add in its place “Minerals Revenue.”

PART 212—RECORDS AND FILES MAINTENANCE

12. The authority citation for part 212 is revised to read as follows:

Authority: 5 U.S.C. 301 et seq.; 25 U.S.C. 396 et seq., 396a et seq., 2101 et seq.; 30 U.S.C. 181 et seq., 351 et seq., 1001 et seq., 1701 et seq.; 31 U.S.C. 9701; 43 U.S.C. 1301 et seq., 1331 et seq., and 1801 et seq.

§ 212.51 [Amended]

13. In § 212.51, paragraph (a), last sentence, remove the words “for use in its Auditing and Financial System (AFS) and Production Accounting and Auditing System (PAAS).”

§ 212.351 [Amended]

14. Amend § 212.351 as follows:

a. In paragraph (a), last sentence, remove the words “for use in its AFS and Production Accounting and Auditing System.”

b. In paragraph (c), first sentence, remove the word “Royalty” and add in its place “Minerals Revenue.”

PART 216—PRODUCTION ACCOUNTING

15. The authority citation for part 216 continues to read as follows:

Authority: 5 U.S.C. 301 et seq.; 25 U.S.C. 396, 2107; 30 U.S.C. 189, 190, 359, 1023, 1751(a); 31 U.S.C. 3716, 9701; 43 U.S.C. 1334, 1801 et seq.; and 44 U.S.C. 3506(a).

§ 216.6 [Amended]

16. Amend § 216.6 as follows:

a. In the definition of “Associate Director,” remove the word “Royalty” and add in its place “Minerals Revenue.”

b. Remove the definition of “MMS/RMP.”

c. Remove the definition of “Production Accounting and Auditing System (PAAS).”

d. In the definition of “reporter,” remove the word “PAAS” and add in its place “production.”

§ 216.15 [Amended]

17. Amend § 216.15 as follows:

a. In paragraph (a), first sentence, remove the words “a ‘PAAS Reporter Handbook’ and a ‘PAAS Onshore Oil and Gas Reporter Handbook,' ” and add in their place “the production reporter handbook.”

b. In paragraph (a), second sentence, remove the words “Reporter Handbooks are” and add in their place “reporter handbook is.” Also remove the words “Royalty Management Program” and add in their place “Minerals Revenue Management.”

c. In paragraph (b), first sentence, remove the words “these handbooks” and add in their place “the handbook.”

d. In paragraph (b), last sentence, remove the word “handbooks” and add in its place “handbook.”

§ 216.16 [Amended]

18. Amend § 216.16 as follows:

a. In paragraph (a), remove the word “Mineral” and add in its place “Minerals.” Also, remove the words “Royalty Management Program” and add in their place “Minerals Revenue Management.”

b. In paragraph (b), remove the words “Royalty Management Program” and add in their place “Minerals Revenue Management.”

§ 216.21 [Amended]

19. In § 216.21, second sentence, remove the words “Production Accounting and Auditing System Reporters Handbook” and add in their place “production reporter handbook.”

§ 216.30 [Amended]

20. In § 216.30, last sentence, remove the year “1980” and add in its place the year “1995.”

PART 217—AUDITS AND INSPECTIONS

21. The authority citation for part 217 continues to read as follows:

Authority: 35 Stat. 312, 35 Stat. 781, as amended; secs. 32, 6, 26, 41 Stat. 450, 753, 1248; secs. 1, 2, 3, 44 Stat 301, as amended; secs. 6, 3, 44 Stat. 659, 710; secs. 1, 2, 3, 44 Stat. 1057; 47 Stat. 1487; 49 Stat. 1482, 1250, 1967, 2026; 52 Stat. 347; sec. 10, 53 Stat. 1196, as amended; 56 Stat. 273; sec. 10, 61 Stat. 915; sec. 3, 63 Stat. 683; 64 Stat. 311; 25 U.S.C. 396, 396a-f, 30 U.S.C. 189, 271, 281, 293, 359. Interpret or apply secs. 5, 5, 44 Stat. 302, 1058, as amended; 58 Stat. 483-485; 5 U.S.C. 301, 16 U.S.C. 508b, 30 U.S.C. 189, 192c, 271, 281, 293, 359, 43 U.S.C. 387, unless otherwise noted.

§ 217.200 [Amended]

22. In § 217.200, in the first, third and last sentences, remove the word “Royalty” and add in its place “Minerals Revenue.”

PART 218—COLLECTION OF ROYALTIES, RENTALS, BONUSES AND OTHER MONIES DUE THE FEDERAL GOVERNMENT

23. The authority citation for part 218 continues to read as follows:

Authority: 25 U.S.C. 396 et seq., 396a et seq., 2101 et seq.; 30 U.S.C. 181 et seq., 351 et seq., 1001 et seq., 1701 et seq.; 31 U.S.C.A. 3335; 43 U.S.C. 1301 et seq., 1331 et seq., 1801 et seq.

§ 218.51 [Amended]

24. Amend § 218.51 as follows:

a. In paragraph (g)(1), first sentence, remove the cross-reference “30 CFR 243.2, Suspensions of orders or decisions pending appeal,” and add in its place “part 243 of this chapter.”

b. In paragraph (h)(2), remove the cross-reference “30 CFR 241.20 and 241.51” and add in its place “part 241 of this chapter.”

§ 218.53 [Amended]

25. Amend § 218.53 as follows:

a. In paragraph (b), second sentence, remove the words “‘Oil and Gas Payor Handbook,”' and add in their place “revenue reporter handbook.”

b. In paragraph (b), third sentence, remove the cross-reference “30 CFR 210.53” and add in its place “part 210 of this chapter.”

§ 218.102 [Amended]

26. In § 218.102, paragraph (b), first sentence, remove the paragraph designations “(f)(1) and (f)(2)” after the cross-reference “§ 218.51.”

§ 218.150 [Amended]

27. In § 218.150, paragraph (c), first sentence, remove the paragraph designations “(f)(1) and (f)(2)” after the cross-reference “§ 218.51.”

§ 218.151 [Amended]

28. In § 218.151, paragraph (c), second sentence, remove the word “segreation” and add in its place “segregation.”

§ 218.155 [Amended]

29. Amend § 218.155 as follows:

a. In paragraph (a), first sentence, remove the words “of this part” after the cross-reference “§ 218.51.”

b. In paragraph (d)(3), remove the paragraph designations “(f)(1) and (f)(2)” after the cross-reference “§ 218.51.”

§ 218.202 [Amended]

30. In § 218.202, paragraph (b), first sentence, remove the paragraph designations “(f)(1) and (f)(2)” after the cross-reference “218.51” and add a section symbol before “218.51.”

§ 218.302 [Amended]

31. In § 218.302, paragraph (b), first sentence, remove the paragraph designations “(f)(1) and (f)(2)” after the cross-reference “§ 218.51.”

PART 219—DISTRIBUTION AND DISBURSEMENT OF ROYALTIES, RENTALS, AND BONUSES

32. The authority citation for part 219 continues to read as follows:

Authority: Section 104, Pub. L. 97-451, 96 Stat. 2451 (30 U.S.C. 1714).

§ 219.102 [Amended]

33. In § 219.102, last sentence, remove the words “Royalty Management Program” and add in their place “Minerals Revenue Management.”

PART 220—ACCOUNTING PROCEDURES FOR DETERMINING NET PROFIT SHARE PAYMENT FOR OUTER CONTINENTAL SHELF OIL AND GAS LEASES

34. The authority citation for part 220 continues to read as follows:

Authority: Sec. 205, Pub. L. 95-372, 92 Stat. 643 (43 U.S.C. 1337).

§ 220.011 [Amended]

35. In § 220.011, paragraph (c)(1), first sentence, remove the word “furnish” and add in its place “furnished.”

PART 227—DELEGATION TO STATES

36. The authority citation for part 227 continues to read as follows:

Authority: 30 U.S.C. 1735, 30 U.S.C. 196; Pub. L. 102-154.

§ 227.103 [Amended]

37. In § 227.103, first sentence, remove the word “Royalty” and add in its place “Minerals Revenue.”

§ 227.110 [Amended]

38. In § 227.110, paragraph (b), second sentence, and paragraph (e), remove the word “Royalty” and add in its place “Minerals Revenue.”

§ 227.401 [Amended]

39. In § 227.401, paragraph (f), remove the words “the PAAS Onshore Oil and Gas Reporter Handbook, the PAAS Reporter Handbook-Lease, Facility/Measurement Point, and Gas Plant Operators” and add in their place “the production reporter handbook.”

§ 227.501 [Amended]

40. In § 227.501, paragraph (c), remove the words “into the Auditing and Financial System (AFS) and the Production Accounting and Auditing System (PAAS).”

PART 228—COOPERATIVE ACTIVITIES WITH STATES AND INDIAN TRIBES

41. The authority citation for part 228 continues to read as follows:

Authority: Sec. 202, Pub. L. 97-451, 96 Stat. 2457 (30 U.S.C. 1732).

§ 228.6 [Amended]

42. In § 228.6, in the definition of “audit,” last sentence, remove the words “the Auditing and Financial System and the Production Accounting and Auditing System.”

PART 230—RECOUPMENTS AND REFUNDS [Removed and Reserved]

43. Remove and reserve Part 230—Recoupments and Refunds.

PART 241—PENALTIES

44. The authority citation for part 241 is revised to read as follows:

Authority: 25 U.S.C. 396 et seq., 396a et seq., 2101 et seq.; 30 U.S.C. 181 et seq., 351 et seq., 1001 et seq., 1701 et seq.; 43 U.S.C. 1301 et seq., 1331 et seq., 1801 et seq.

§ 241.54 [Amended]

45. In § 241.54, first sentence, remove the words “4015 Wilson Boulevard,” and add in their place “801 North Quincy Street.”

§ 241.56 [Amended]

46. In § 241.56, paragraph (b), remove the words “4015 Wilson Boulevard,” and add in their place “801 North Quincy Street.”

§ 241.62 [Amended]

47. In § 241.62, first sentence, remove the words “4015 Wilson Boulevard,” and add in their place “801 North Quincy Street.”

§ 241.64 [Amended]

48. In § 241.64, paragraph (b), remove the words “4015 Wilson Boulevard,” and add in their place “801 North Quincy Street.”

PART 243—SUSPENSIONS PENDING APPEAL AND BONDING— MINERALS REVENUE MANAGEMENT

49. The authority citation for part 243 continues to read as follows:

Authority: 5 U.S.C. 301 et seq.; 25 U.S.C. 396 et seq., 396a et seq., 2101 et seq.; 30 U.S.C. 181 et seq., 351 et seq., 1001 et seq., 1701 et seq.; 31 U.S.C. 9701; 43 U.S.C. 1301 et seq., 1331 et seq., and 1801 et seq.

50. Revise the heading of part 243 to read as set forth above.

§ 243.3 [Amended]

51. In § 243.3, in the definition of “MMS bond-approving officer,” remove the word “Royalty” and add in its place “Minerals Revenue.”

[FR Doc. 02-9242 Filed 4-17-02; 8:45 am]

BILLING CODE 4310-MR-P